DEPARTMENT OF JUSTICE

National Institute of Corrections

Advisory Board Meeting

Time and Date: 8 a.m.-4:30 p.m. on Monday, April 02, 2012. 8 a.m.-12 p.m. on Tuesday, April 03, 2012.

Place: Federal Bureau of Prisons, 500 First Street NW., Washington, DC 20534, (202) 514-4222.

Matters To Be Considered: Directors report; review of outcomes of November 2-3, 2011 Advisory Board Hearing (Shifting the Focus to Reshape Our Thinking Toward Performance Based Outcomes), presentations, future planning.

Contact Person for More Information: Thomas Beauclair, Deputy Director, (202) 307-3106, extension 44254.

Morris L. Thigpen, Sr.,
Director, National Institute of Corrections.

[FR Doc. 2012-5225 Filed 3-6-12; 8:45 am]

BILLING CODE 4410-36-M